DEPARTMENT OF DEFENSE

Department of the Army; Corps of Engineers

Notice of Correction to the Notice of Intent To Prepare a Joint Environmental Impact Statement (EIS) for the Gateway Pacific Terminals Bulk Dry Goods Shipping Facility and the Custer Spur Rail Expansion Projects

AGENCY: Department of the Army, U.S. Army Corps of Engineers, DoD.

ACTION: Notice of correction.

SUMMARY: This notice corrects the date of one of the public scoping meetings listed in the Notice of Intent published in the Federal Register (77 FR 71405) on Friday, November 30, 2012. The Seattle public scoping meeting will be held at the Washington State Convention Center, Ballroom 6F, 800 Convention Place, Seattle, WA 98101 on Thursday, December 13, 2012, from 4:00 p.m. to 7:00 p.m.

FOR FURTHER INFORMATION CONTACT: Mr. Randel Perry via email at: randel.j.perry@usace.army.mil, by phone at (360) 734-3156, or by regular mail at Mr. Randel Perry, U.S. Army Corps of Engineers, Seattle District, Care of: GPT/BNSF Custer Spur EIS Co-Lead Agencies, 1100 112th Avenue Northeast, Suite 400, Bellevue, WA 98004. Additional information on scoping meetings can be found at www.eisgatewaypacificwa.gov.

Brenda S. Bowen,
Army Federal Register Liaison Officer.

[FR Doc. 2012-29692 Filed 12-7-12; 8:45 am]

BILLING CODE 3720-58-P